DEPARTMENT OF HEALTH AND HUMAN SERVICES

Substance Abuse and Mental Health Services Administration

Fiscal Year (FY) 2002 Funding Opportunities

AGENCY: Center for Substance Abuse Prevention, Substance Abuse and Mental Health Services Administration, HHS.

ACTION: Notice of funding availability for restricted eligibility.

SUMMARY: This notice is to inform the public that the SAMHSA/CSAP has available $130,000 to supplement the Iowa State Incentive Grant. The Wiatt Foundation donated $100,000 to be used on the National Youth Anti-Drug Media Campaign, specifically in the Sioux City, Iowa media market. The Office of National Drug Control Policy (ONDCP) provided an additional $30,000 that was donated by the UPS Foundation in 1998 through the Partnership for a Drug-Free Iowa. The State Incentive Program Grant provides funds to the States to coordinate, leverage, and/or redirect all substance abuse prevention resources within the State that are directed at communities, families, youth (ages 12-17), schools and workplaces.

Program Contact: For questions concerning program issues, contact: Karen Salem, Rockwall II, Suite 930, 5600 Fishers Lane, Rockville, MD 20857, (301) 443-9831, e-mail: Ksalem@samhsa.gov

For questions regarding grants management issues, contact: Steve Hudak, Division of Grants Management, OPS/SAMHSA, Rockwall II, 6th floor, 5600 Fishers Lane, Rockville, MD 20857, (301) 443-9666, e-mail: Shudak@samhsa.gov

Dated: August 14, 2002.
Joseph H. Autry III,
Deputy Administrator, Substance Abuse and Mental Health Services Administration.

[FR Doc. 02-21103 Filed 8-19-02; 8:45 am]

BILLING CODE 4162-20-P